DEPARTMENT OF TRANSPORTATION

Federal Highway Administration

Environmental Impact Statement; Chisago County, Minnesota and Polk County, Wisconsin

AGENCY: Federal Highway Administration (FHWA), DOT.

ACTION: Notice of intent.

SUMMARY: The FHWA is issuing this notice to advise the public that an environmental impact statement (EIS) will be prepared for proposed transportation improvements in the Trunk Highway (TH) 8 corridor between Interstate 35 (I-35) to the west in Chisago County, Minnesota and the TH 8/Highway 35 intersection to the east in Polk County, Wisconsin.

FOR FURTHER INFORMATION CONTACT: Cheryl Martin, Federal Highway Administration, Galtier Plaza, 380 Jackson Street, Suite 500, St. Paul, Minnesota 55101, Telephone (651) 291-6120; or Stan Thompson, Project Manager, Minnesota Department of Transportation—Metro Division, Waters Edge Building, 1500 West County Road B-2, Roseville, Minnesota 55113, Telephone (651) 582-1307; (651) 296-9930 TTY.

SUPPLEMENTARY INFORMATION: The FHWA, in cooperation with the Minnesota Department of Transportation (Mn/DOT) and the Wisconsin Department of Transportation (Wis/DOT), will prepare an EIS on a proposal to provide safety, operational and capacity improvements to the TH 8 Corridor from I-35 to the west in Chisago County, Minnesota to the intersection of TH 8/Highway 35 to the east in Polk County, Wisconsin.

The proposed improvements could include capacity expansion on sections of TH 8, upgrading existing roadway systems in the Corridor, providing geometic/traffic control and access improvements along TH 8, and providing new roadway facilities including some alternatives that utilize the TH 243 bridge crossing over the St. Croix River.

The EIS will evaluate the social, economic, transportation and environmental impacts of alternatives, including: (1) No-Build (2) Improvements within the existing TH 8 Alignment (3) Improvements on a new location.

The “Trunk Highway 8 Scoping Document/Draft Scoping Decision Document” will be published in the Summer 2002. A press release will be published to inform the public of the document's availability. Copies of the scoping document will be distributed to agencies, interested persons and libraries for review to aid in identifying issues and analyses to be contained in the EIS. A thirty-day comment period for review of the document will be provided to afford an opportunity for all interested persons, agencies and groups to comment on the proposed action. A public scoping meeting will also be held during the comment period. Public notice will be given for the time and place of the meeting.

A Draft EIS will be prepared based on the outcome of the scoping process. The Draft EIS will be available for agency and public review and comment. In addition, a public hearing will be held following completion of the Draft EIS. Public Notice will be given for the time and place of the public hearing on the Draft EIS.

Coordination has been initiated and will continue with appropriate Federal, State and local agencies and private organizations and citizens who have previously expressed or are know to have an interest in the proposed action. The TH 8 Task Force made up of local agencies and citizens and a Technical Advisory Committee made up of Federal, State, and local officials has been established and has provided input in the development and refinement of alternatives and impact evaluation activities.

To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program).
Issued on: May 7, 2002.
Stanley M. Graczyk,
Project Development Engineer, Federal Highway Administration, St. Paul, Minnesota.

[FR Doc. 02-11944 Filed 5-13-02; 8:45 am]

BILLING CODE 4910-22-M